DEPARTMENT OF HEALTH AND HUMAN SERVICES

National Institutes of Health

National Center for Complementary & Integrative Health; Amended Notice of Meeting

Notice is hereby given of a change in the meeting of the National Center for Complementary and Integrative Health Special Emphasis Panel, April 2, 2020, 5:00 p.m. to April 3, 2020, 12:00 p.m., which was published in the Federal Register on February 03, 2020, 85 FR 22, page 5970. The meeting location has changed to National Institutes of Health, 6707 Democracy Boulevard, Bethesda, MD 20892.

The NCCIH Special Emphasis Panel meeting is being amended due to a change in the meeting format. This two-day meeting to be held on April 2 and April 3, 2020 will be a teleconference. The meeting is closed to the public.

Dated: March 18, 2020.
Ronald J. Livingston, Jr.,
Program Analyst, Office of Federal Advisory Committee Policy.

[FR Doc. 2020-06099 Filed 3-23-20; 8:45 am]

BILLING CODE 4140-01-P